ENVIRONMENTAL PROTECTION AGENCY

[FRL-9494-3]

Notice of a Public Meeting on Long Term 2 Enhanced Surface Water Treatment Rule: Initiate Regulatory Review—Cryptosporidium Analytical Method Improvements and Update on Source Water Monitoring

AGENCY: Environmental Protection Agency (EPA).

ACTION: Notice of public meeting.

SUMMARY: The Environmental Protection Agency (EPA) is hosting a public meeting on December 7, 2011, to discuss the analytical methods for Cryptosporidium and the source water monitoring data from the Long Term 2 Enhanced Surface Water Treatment Rule (LT2 rule). This is the first of at least two meetings on the LT2 rule that EPA will host. At the December meeting, EPA will present its evaluation of the LT2 rule Cryptosporidium source water monitoring data, new information on the performance of Method 1623, as well as the latest information on Method 1623 improvements. A public meeting on the LT2 rule uncovered finished water reservoir requirement will occur in Spring 2012. Matters related to the uncovered finished water reservoir requirement will not be discussed at the December 7, 2011, meeting. The information discussed in these meetings is part of the review of the LT2 rule under the Six Year Review process announced as part of EPA's Retrospective Review Plan under Executive Order (E.O.) 13563 in August 2011. The LT2 rule requires a second round of Cryptosporidium monitoring, which is scheduled to start in 2015. The Stage 2 Microbial and Disinfection Byproducts (M/DBP) Federal Advisory Committee (FAC) recommended that EPA hold a public meeting on these issues prior to the second round of monitoring.

Date and Location: The public meeting will be held on Wednesday, December 7, 2011, (8:30 a.m. to 5 p.m., Eastern Time), at the EPA East Building, Room 1153, 1201 Constitution Avenue NW., Washington, DC 20460. A separate Federal Register notice will be published to provide information on the date and location of the 2012 public meeting focused on the LT2 uncovered finished water reservoir requirement.

FOR FURTHER INFORMATION CONTACT: For technical inquiries, contact, César Cordero, Standards and Risk Management Division, Office of Ground Water and Drinking Water (MC 4607M), Environmental Protection Agency, 1200 Pennsylvania Ave. NW., Washington, DC 20460 at (202) 564-3716 or cordero.cesar@epa.gov. For more information about the LT2 rule or the Six Year Review Process, visit: http://water.epa.gov/lawsregs/rulesregs/sdwa/lt2/ or http://water.epa.gov/lawsregs/rulesregs/regulatingcontaminants/sixyearreview/index.cfm.

SUPPLEMENTARY INFORMATION: EPA published the final LT2 rule in January 2006. The purpose of the LT2 rule is to reduce disease incidence associated with Cryptosporidium and other disease-causing microorganisms in drinking water.

The 1996 Amendments to the Safe Drinking Water Act (SDWA) require EPA to review its existing drinking water regulations every six years. SDWA specifies that any revision to a national primary drinking water regulation must maintain or provide for greater protection of the health of persons.

EPA announced in the Agency's August 2011 Improving Our Regulations: Final Plan for Periodic Review Retrospective Reviews of Existing Regulations document in response to E.O. 13563 that a review of the LT2 rule will start in 2011. The Agency plans to complete its review of the LT2 rule no later than 2016. As part of the review, EPA will assess and analyze new information regarding occurrence, treatment, analytical methods, health effects, and risk from all relevant waterborne pathogens to evaluate whether there are new or additional ways to manage risk while assuring equivalent or improved protection.

Registration: Individuals planning on participating in the public meeting must register for the meeting by contacting Junie Percy of Intellitech by email at junie.percy@itsysteminc.com no later than December 2, 2011. Teleconferencing will be available for individuals unable to attend the meeting in person.

Special Accommodations: For information on access or accommodations for individuals with disabilities, please contact Jini Mohanty at (202) 564-5269 or by email at mohanty.jini@epa.gov. Please allow at least five business days prior to the meeting to give EPA time to process your request.

Dated: November 10, 2011.
Cynthia C. Dougherty,
Director, Office of Ground Water and Drinking Water.

[FR Doc. 2011-29776 Filed 11-17-11; 8:45 am]

BILLING CODE 6560-50-P